ENVIRONMENTAL PROTECTION AGENCY

[FRL-9428-5; Docket ID No. EPA-HQ-ORD-2011-0051]

Draft Integrated Science Assessment for Lead

AGENCY: Environmental Protection Agency.

ACTION: Notice of extension of public comment period.

SUMMARY: EPA is announcing a two week extension of the public comment period for the first external review draft of a document titled, “First External Review Draft Integrated Science Assessment for Lead” (EPA/600/R-10/075A). The original Federal Register notice announcing the public comment period was published on May 6, 2011 (76 FR 26284). This assessment document was prepared by the National Center for Environmental Assessment (NCEA) within EPA's Office of Research and Development as part of the review of the National Ambient Air Quality Standards (NAAQS) for Lead.

DATES: The public comment period began May 6, 2011. This notice announces an extension of the deadline for public comment from July 5, 2011 to July 19, 2011. Comments must be received by July 19, 2011.

ADDRESSES: The “First External Review Draft Integrated Science Assessment for Lead” will be available primarily via the Web page under Recent Additions and Publications menus at http://www.epa.gov/ncea. A limited number of CD-ROM or paper copies will be available. Contact Ms. Debbie Wales by phone (919-541-4731), fax (919-541-5078), or e-mail (wales.deborah@epa.gov) to request either of these, and please provide your name, your mailing address, and the document title, “First External Review Draft Integrated Science Assessment for Lead” (EPA/600/R-10/075A) to facilitate processing of your request.

FOR FURTHER INFORMATION CONTACT: For technical information, contact Dr. Ellen Kirrane, NCEA; telephone: 919-541-1340; facsimile: 919-541-2985; or e-mail: kirrane.ellen@epa.gov.

Comments may be submitted electronically via http://www.regulations.gov, by mail, by facsimile, or by hand delivery/courier. Please follow the detailed instructions provided in the SUPPLEMENTARY INFORMATION section of Federal Register Notice (76 FR 26284). For information on submitting comments to the docket, please contact the Office of Environmental Information Docket; telephone: 202-566-1752; facsimile: 202-566-1753; or e-mail: ORD.Docket@epa.gov.

Dated: June 23, 2011.
Darrell A. Winner,
Acting Director, National Center for Environmental Assessment.

[FR Doc. 2011-16624 Filed 6-30-11; 8:45 am]

BILLING CODE 6560-50-P